DEPARTMENT OF ENERGY

Federal Energy Regulatory Commission

[Docket No. CP00-48-000]

Tennessee Gas Pipeline Company; Notice of Site Visit

May 5, 2000.

On May 16 and 17, 2000 the Office of Energy Projects (OEP) staff will inspect Tennessee Gas Pipeline Company's (TGP) proposed route and potential alternative routes for the Londonderry 20” Replacement Project in Middlesex County, Massachusetts, and Hillsboro and Rockingham Counties, New Hampshire. The areas will be inspected by automobile and on foot. Representatives of TGP will accompany the OEP staff. Anyone interested in participating in the site visits must provide their own transportation.

For additional information, contact Mr. Paul McKee of the Commission's Office of External Affairs at (202) 208-1088.

David P. Boergers,
Secretary.

[FR Doc. 00-11772 Filed 5-10-00; 8:45 am]

BILLING CODE 6717-01-M